DEPARTMENT OF TRANSPORTATION

Federal Aviation Administration

Notice To Intend To Rule on Application 03-05-C-00-ISP To Impose and Use the Revenue From a Passenger Facility Charge (PFC) at Long Island MacArthur Airport, Ronkonkoma, NY

AGENCY: Federal Aviation Administration (FAA), DOT.

ACTION: Notice to intend to rule on application.

SUMMARY: The FAA proposes to rule and invites public comment on the application to impose and use a PFC at Long Island MacArthur Airport under the provisions of the Aviation Safety and Capacity Act of 1990 (Title IX of the Omnibus Budget Reconciliation Act of 1990) (Pub. L. 101-508) and part 158 of the Federal Aviation Regulations (14 CFR part 158).

DATES: Comments must be received on or before March 5, 2003.

ADDRESSES: Comments on this Application may be mailed or delivered in triplicate to the FAA at the following address: Mr. Dan Vornea, Project Manager, New York District Office, 600 Old Country Road, Suite 446, Garden City, N.Y. 11530.

In addition, one copy of any comments submitted to the FAA must be mailed or delivered to Mr. Alfred Werner, Airport Manager, of the Long Island MacArthur Airport at the following address: Long Island MacArthur Airport, 100 Arrival Avenue, Ronkonkoma, N.Y. 11779.

Air carriers and foreign air carriers may submit copies of their written comments previously provided to Long Island MacArthur Airport under § 158.23 of Part 158.

FOR FURTHER INFORMATION CONTACT: Dan Vornea, Project Manager, New York Airports District Office, 600 Old Country Road, Suite 446, Garden City, N.Y. 11530, Telephone No. (516) 227-3812. The application may be reviewed in person at this same location.

SUPPLEMENTARY INFORMATION: The FAA proposes to rule and invites public comment on the application to impose and use a PFC at Long Island MacArthur Airport under the provisions of the Aviation Safety and Capacity Expansion Act of 1990 (Title IX of the Omnibus Budget Reconciliation Act of 1990) (Pub. L. 101-508) and part 158 of the Federal Aviation Regulations (14 CFR part 158).

On January 28, 2003 the FAA determined that the application to impose and use a PFC submitted by the Town of Islip was substantially completed within the requirements of section 158.25 of part 158. The FAA will approve or disapprove the application, in whole or in part, no later than May 28, 2003.

The following is a brief overview of the application:

Application Number: 03-05-C-00-ISP.

Level of Proposed PFC: $3.00.

Proposed Charge Effective Date: August 1, 2005.

Proposed Charge Expiration Date: October 1, 2005.

Total Estimated PFC Revenue: $493,001

Brief Description of Proposed Projects:

—Rehabilitation of Runway 6-24 (Impose and Use).

—Wildlife Hazard Management Assessment and Management Plan (Impose and Use).

—Acquire two (2) Snow Removal Brooms (Impose and Use).

—Purchase one (1) Passenger Boarding Assistance Device (Impose and Use).

—Airport Security Enhancement Items (Impose and Use).

Class or classes of air carriers which the public agency has requested not to be required to collect PFS's are: Non-Scheduled/On Demand Air Carriers filing FAA Form 1800-31.

Any person may inspect the Application in person at the FAA office listed above under FOR FURTHER INFORMATION CONTACT and at the FAA Regional Office: 1 Aviation Plaza, Jamaica, N.Y. 11434-4809.

In addition, any person may, upon request, inspect the appliation notice and other documents germane to the application in person at the Long Island MacArthur Airport.

Issued in Garden City, New York on January 28, 2003.
Philip Brito,
Manager, NYADO Eastern Region.

[FR Doc. 03-2418 Filed 1-31-03; 8:45 am]

BILLING CODE 4910-13-M